DEPARTMENT OF ENERGY

Federal Energy Regulatory Commission

[Docket No. AD05-12-000]

Report on Generator Offers in the Midwest Independent Transmission System Operator Market Launch; Notice Inviting Comments on Staff Report

July 22, 2005.

The Commission is posting, and inviting comment upon, a staff report, “Report on Generator Offers in the Midwest Independent Transmission System Operator Market Launch” (Report). The Report presents information and staff conclusions related to generator supply offers made into the Midwest Independent Transmission System Operator (MISO) during the two months following the launch of the MISO Energy Markets, a period during which MISO market participants were required to offer supply into MISO at cost.

The purpose of this Notice is to solicit comment on the Report and, in particular, on staff's recommendations (contained in Section VI of the Report, Analysis and Observations) that may assist the Commission in the development of policies relating to the issues raised in the Report. The Report will be posted on the Commission's Web site at http://www.ferc.gov.

Comments on the Report should be filed within 30 days of the issuance of this Notice. The Commission encourages electronic submission of comments in lieu of paper using the “eFiling” link at http://www.ferc.gov. Persons unable to file electronically should submit an original and 14 copies of the comment to the Federal Energy Regulatory Commission, 888 First Street, NE., Washington, DC 20426.

All filings in this docket are accessible on-line at http://www.ferc.gov, using the “eLibrary” link and will be available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Questions regarding this Notice should be directed to:

David Tobenkin, Office of Market Oversight and Investigations, Federal Energy Regulatory Commission, 888 First Street, NE., Washington, DC 20426, 202-502-6445, david.tobenkin@ferc.gov.

William Meroney, Office of Market Oversight and Investigations, Federal Energy Regulatory Commission, 888 First Street, NE., Washington, DC 20426, 202-502-8069, william.meroney@ferc.gov.

Comment Date: 5 p.m. Eastern Time on August 22, 2005.

Magalie R. Salas,
Secretary.

[FR Doc. E5-4058 Filed 7-28-05; 8:45 am]

BILLING CODE 6717-01-P